SECURITIES AND EXCHANGE COMMISSION

[File No. 1-16637]

Issuer Delisting; Notice of Application of Price Legacy Corporation To Withdraw Its Common Stock, $.00001 Par Value, From Listing and Registration on the American Stock Exchange LLC

March 25, 2004.

Price Legacy Corporation, a Maryland corporation (“Issuer”), has filed an application with the Securities and Exchange Commission (“Commission”), pursuant to section 12(d) of the Securities Exchange Act of 1934 (“Act”) ¹ and Rule 12d2-2(d) thereunder,² to withdraw its Common Stock, $.0001 par value (“Security”), from listing and registration on the American Stock Exchange LLC (“Amex” or “Exchange”).

¹ 15 U.S.C. 78l(d).

² 17 CFR 240.12d2-2(d).

The Board of Directors (“Board”) of the Issuer unanimously approved resolutions on March 11, 2004 to withdraw the Issuer's Security from listing and registration on the Amex and to list the Security on Nasdaq National Market System (“NMS”). The Board states that it expects the last day of trading on the Amex to be March 12, 2004. The Issuer states that the reasons for delisting its Security from the Amex are as follows: Listing on the NMS will afford the Issuer more desirable exposure; and the Issuer felt that dual listing within different exchanges and markets would cause confusion for the Issuer's shareholders.

The Issuer stated in its application that it has met the requirements of Amex Rule 18 by complying with all applicable laws in the State of Maryland, in which it is incorporated, and with the Amex's rules governing an issuer's voluntary withdrawal of a security from listing and registration.

The Issuer's application relates solely to the withdrawal of the Security from listing on the Amex and from registration under section 12(b) of the Act ³ shall not affect its obligation to be registered under section 12(g) of the Act.⁴

³ 15 U.S.C. 78l(b).

⁴ 15 U.S.C. 78l(g).

Any interested person may, on or before April 19, 2004, submit by letter to the Secretary of the Securities and Exchange Commission, 450 Fifth Street, NW., Washington, DC 20549-0609, facts bearing upon whether the application has been made in accordance with the rules of the Amex and what terms, if any, should be imposed by the Commission for the protection of investors. All comment letters should refer to File No. 1-16637. The Commission, based on the information submitted to it, will issue an order granting the application after the date mentioned above, unless the Commission determines to order a hearing on the matter.

For the Commission, by the Division of Market Regulation, pursuant to delegated authority.⁵
⁵ 17 CFR 200.30-3(a)(1).
Jonathan G. Katz,
Secretary.

[FR Doc. 04-7207 Filed 3-30-04; 8:45 am]

BILLING CODE 8010-01-P